DEPARTMENT OF TRANSPORTATION

Federal Aviation Administration

[Summary Notice No. PE-2000-30]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, DC 20591.

The petition, any comments received, and a copy of any final disposition are filed in the assigned regulatory docket and are available for examination in the Rules Docket (AGC-200), Room 915G, FAA headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1, Federal Aviation Administration, 800 Independence Avenue, SW., Washington, DC 20591.

This notice is published pursuant to paragraphs (c), (e), and (g) of § 11.27 of Part 11 of the Federal Aviation Regulations (14 CFR Part 11).

Issued in Washington, DC, on July 28, 2000.
Donald P. Byrne,
Assistant Chief Counsel for Regulations.

Dispositions of Petitions

Docket No.: 28172.

Petitioner: Helicopter Services, Inc.

Section of the FAR Affected: 14 CFR 135.143(c)(2).

Description of Relief Sought/Disposition: To permit HSI to operate certain aircraft under part 135 without a TSO-C112 (Mode S) transponder installed on those aircraft.

Grant, 6/22/00, Exemption No. 6109B

Docket No.: 26006.

Petitioner: Raytheon Aircraft Company.

Section of the FAR Affected: 14 CFR 47.69(b).

Description of Relief Sought/Disposition: To permit Raytheon to use their Dealer's Aircraft Registration Certificate outside the United States for demonstrating, testing, selling, and marketing any and all aircraft manufactured by it.

Grant, 06/01/00, Exemption No. 7241

Docket No.: 29978.

Petitioner: Mr. Kent Walker Ewing.

Section of the FAR Affected: 14 CFR 91.109(a) and (b)(3).

Description of Relief Sought/Disposition: To permit certain flight instruction in Beechcraft Bonanza, Baron, and Travel Air airplanes equipped with a functioning throwover wheel in place of functioning dual controls.

Grant, 06/14/00, Exemption No. 7245

Docket No.: 29961.

Petitioner: Horizon Air Industries, Inc. dba Horizon Air (Horizon).

Section of the FAR Affected: 14 CFR 121.434(c)(1)(ii).

Description of Relief Sought/Disposition: To permit Horizon to substitute a qualified and authorized check airman in place of an FAA inspector to observe a qualifying PIC who is completing initial or upgrade training specified in § 121.424 during at least one flight leg that includes a takeoff and a landing.

Grant, 06/14/00, Exemption No. 7253

Docket No.: 2992.

Petitioner: Alaska Air Taxi.

Section of the FAR Affected: 14 CFR 135.143(c)(2).

Description of Relief Sought/Disposition: To permit AAT to operate certain aircraft under part 135 without a TSO-C112 (Mode S) transponder installed in the aircraft.

Grant, 06/22/00, Exemption No. 7247

Docket No. 30084.

Petitioner: Crescent City Airport Day Committee.

Section of the FAR Affected: 14 CFR 135.251, 135.255, 135.353, and appendixes I and J to part 121.

Description of Relief Sought/Disposition: To permit CCADC to conduct local sightseeing flights at Crescent City Airport, California, for its one-day Airport Day Scholarship Fundraising airlift in July 2000, for compensation or hire, without complying with certain anti-drug and alcohol misuse prevention requirements.

Grant, 06/22/00, Exemption No. 7248

Docket No.: 30066.

Petitioner: Aero Charter, Inc.

Section of the FAR Affected: 14 CFR 135.143(c)(2).

Description of Relief Sought/Disposition: To permit ACI to operate certain aircraft under part 135 without a TSO-C112 (Mode S) transponder installed in the aircraft.

Grant, 06/22/00, Exemption No. 7250

Docket No.: 29988.

Petitioner: EK Aviation.

Section of the FAR Affected: 14 CFR 135.251, 135.255, and 135.353 and appendixes I and J to part 121.

Description of Relief Sought/Disposition: To permit EKA to conduct local sightseeing flights at the Sidney, Ohio, airport airfair on June 24, 2000, and at the Urbana, Ohio, airport airfair on July 4, 2000, for compensation or hire, without complying with the drug and alcohol testing requirements.

Grant, 06/21/00, Exemption No. 7246

Docket No.: 23980.

Petitioner: United States Hang Gliding Association, Inc.

Section of the FAR Affected: 14 CFR 91.309 and 103.1(b).

Description of Relief Sought/Disposition: To permit USHGA members to tow unpowered ultralight vehicles (hang gliders) using powered ultralight vehicles.

Grant, 06/14/00, Exemption No. 4144H

Docket No.: 29987.

Petitioner: Helicorp, Inc.

Section of the FAR Affected: 14 CFR 135.143(c)(2).

Description of Relief Sought/Disposition: To permit Helicorp to operate certain aircraft under part 135 without a TSO-C112 (Mode S) transponder installed in the aircraft.

Grant, 06/22/00, Exemption No. 7251

Docket No.: 30098.

Petitioner: Pacific Helicopter Tours, Inc.

Section of the FAR Affected: 14 CFR 135.152(a).

Description of Relief Sought/Disposition: To permit PHT to operate its two Bell 212 helicopters under part 135 without each of those helicopters being equipped with an approved digital flight data recorder.

Grant, 06/29/00, Exemption No. 7257

Docket No.: 29854.

Petitioner: LifePort, Inc.

Section of the FAR Affected: 14 CFR 25.562 and 25.785(b).

Description of Relief Sought/Disposition: To permit supplemental type certification of a medical stretcher installation on Gulfstream G-V airplanes.

Grant, 05/02/00, Exemption No. 7189

Docket No.: CE157.

Petitioner: The Red Baron Stearman Squadron.

Section of the FAR Affected: 14 CFR 23.851 and Civil Air Regulation (CAR) 4a.532(j).

Description of Relief Sought/Disposition: To permit the removal of fire extinguishers from six Boeing Stearman airplanes, which do not comply with the requirements of the CAR and part 23.

Denial, 04/13/00, Exemption No. 7167

Docket No.: CE155.

Petitioner: Raytheon Aircraft Company.

Section of the FAR Affected: 14 CFR 23.181(b).

Description of Relief Sought/Disposition: To permit Raytheon Model 390 to be certified to a requirement equivalent to 14 CFR 25.181(b).

Grant, 04/24/00, Exemption No. 7190

Docket No.: 30074.

Petitioner: Lebanon Chapter of the Oregon Pilots Association.

Section of the FAR Affected: 14 CFR 135.251, 135.255, 135.353, and appendixes I and J to part 121.

Description of Relief Sought/Disposition: To permit LCOPA to conduct local sightseeing flights at Lebanon State Airport, Oregon, for a one-day charitable airlift event in July, 2000, for compensation or hire, without complying with certain anti-drug and alcohol misuse prevention requirements of part 135.

Grant, 06/22/00, Exemption No. 7249

[FR Doc. 00-19525 Filed 8-1-00; 8:45 am]

BILLING CODE 4910-13-M